DEPARTMENT OF COMMERCE

Submission For OMB Review; Comment Request

DOC has submitted to the Office of Management and Budget (OMB) for clearance the following proposal for collection of information under the provisions of the Paperwork Reduction Act (44 U.S.C. chapter 35).

Agency: U.S. Census Bureau.

Title: 2004 Coverage Research Followup Test.

Form Number(s): Questionnaire: DB-1301(CRFU), Followup Quality Control Questionnaire: DB-1302, Privacy Act Notice: DB-31 (CRFU).

Agency Approval Number: None.

Type of Request: New collection.

Burden: 4,800 hours.

Number of Respondents: 16,000.

Avg Hours Per Response: 18 minutes.

Needs and Uses: The U.S. Census Bureau requests authorization from the Office of Management and Budget to conduct the 2004 Coverage Research Followup (CRFU). Improved coverage is one of the four major goals for Census 2010. As part of the effort to meet this goal, the Census Bureau is planning to conduct a new operation in conjunction with the 2004 Census Test. CRFU is intended to evaluate the effectiveness of revised procedures for improving coverage and reducing duplication. The CRFU operation will be conducted in both 2004 Census Test sites—Northwest Queens, NY, and three rural counties in Georgia (Colquitt, Tift, and Thomas). The CRFU operation will gather information regarding the effectiveness of the wording and presentation of the residence rules instructions and the two coverage questions included in the 2004 Census Test questionnaire. CRFU also will obtain information about the types of possible duplicates for which a household (HH) should be contacted in order to resolve residence status.

The CRFU operation will be followed by a Quality Control procedure designed to ensure that the CRFU enumerators completed their interviews and recorded respondent information correctly.

Affected Public: Individuals or households.

Frequency: One time.

Respondent's Obligation: Mandatory.

Legal Authority: Title 13 U.S.C. 141 and 193.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or email (susan_schechter@omb.eop.gov).

Dated: February 27, 2004.
Madeleine Clayton,
Management Analyst, Office of the Chief Information Officer.

[FR Doc. 04-4710 Filed 3-2-04; 8:45 am]

BILLING CODE 3510-07-P